DEPARTMENT OF TRANSPORTATION

Federal Aviation Administration

14 CFR Part 39

[Docket No. 2001-NM-01-AD; Amendment 39-12141; AD 2001-05-05]

RIN 2120-AA64

Airworthiness Directives; Boeing Model 747 Series Airplanes

Correction

In rule document 01-5168 beginning on page 13424 in the issue of Tuesday, March 6, 2001, make the following correction:

§39.13 [Corrected]

On page 13426, in §39.13(a)(2), in the first column, the table is corrected to read as set forth below:

Table 1
AD Number | Amendment Number
AD 95-10-16 | 39-9233
AD 95-13-05 | 39-9285
AD 95-13-06 | 39-9286
AD 95-13-07 | 39-9287
AD 99-10-10 | 39-11163

[FR Doc. C1-5168 Filed 3-15-01; 8:45 am]

BILLING CODE 1505-01-D